COMMISSION ON CIVIL RIGHTS

Agenda and Notice of Public Meeting of the Kentucky Advisory Committee

Notice is hereby given, pursuant to the provisions of the rules and regulations of the U.S. Commission on Civil Rights, that a planning meeting of the Kentucky Advisory Committee to the Commission will convene at 12:30 p.m. and adjourn at 5 p.m. on Thursday, August 10, 2006, at Room 230, Gardiner Hall, University of Louisville, Louisville, Kentucky. The purpose of the meeting is an orientation of Committee members, a discussion of the Committee's report on the achievement gap between African American students and white students, and a discussion of a project for 2007.

Persons desiring additional information, or planning a presentation to the Committee, should contact Peter Minarik, Ph.D., Regional Director, Southern Regional Office, U.S. Commission on Civil Rights at (404) 562-7000. Hearing impaired individuals may obtain additional information by calling TDD 202-376-8116, and hearing-impaired persons who will attend the meeting and require the services of a sign language interpreter should contact the Regional Office at least ten (10) working days before the scheduled date of the meeting.

The meeting will be conducted pursuant to the provisions of the rules and regulations of the Commission.

Dated at Washington, DC, July 19, 2006.
Ivy Davis,
Acting Chief, Regional Programs Coordination Unit.

[FR Doc. E6-11843 Filed 7-24-06; 8:45 am]

BILLING CODE 6335-01-P